Proclamation 8356 of April 1, 2009

National Donate Life Month, 2009

By the President of the United States of America

A Proclamation

Through organ, tissue, and marrow donation Americans can give the extraordinary gift of life. National Donate Life Month provides an opportunity to honor those who have given of themselves to save lives and to call upon others to participate in this generous effort.

Every day in our Nation and across the world, Americans dedicate themselves to helping those in need. During times of crisis and calm, Americans have looked beyond themselves to aid friends and strangers alike. This spirit of giving represents a hallmark of our national character.

Many Americans have followed this tradition of generosity through organ, tissue, and marrow donation. These selfless individuals have saved lives and strengthened families and communities, and they deserve respect and admiration for their contributions.

I urge all Americans to follow these examples by considering becoming an organ, tissue, or marrow donor. The call for help from those in need of transplants is clear. More donors are needed to meet the needs of those on the national waiting list for life-saving transplants. When considering organ donation, Americans should consult family members to ensure that loved ones are fully aware of the donor's decisions.

Joining the ranks of organ donors is simple. I encourage Americans to learn more about becoming a donor at www.organdonor.gov.

NOW, THEREFORE, I, BARACK OBAMA, President of the United States of America, by virtue of the authority vested in me by the Constitution and laws of the United States, do hereby proclaim April 2009 as National Donate Life Month. I call upon health care professionals, volunteers, educators, government agencies, faith-based and community groups, and private organizations to join forces to increase the number of organ and tissue donors throughout our Nation.

IN WITNESS WHEREOF, I have hereunto set my hand this first day of April, in the year of our Lord two thousand nine, and of the Independence of the United States of America the two hundred and thirty-third.

[FR Doc. E9-7926

Filed 4-3-09; 11:15 am]

Billing code 3195-W9-P